DEPARTMENT OF THE TREASURY

Customs Service

Fees for Customs Services at User Fee Airports

AGENCY: Customs Service, Treasury.

ACTION: General notice.

SUMMARY: This document advises the public of an increase in the fees charged user fee airports by Customs for providing Customs services at these designated facilities. These fees are based on actual costs incurred by Customs in purchasing equipment and providing training and one Customs inspector on a full-time basis, and, thus, merely represent reimbursement to Customs for services rendered. The fees to be increased are the initial fee charged for a user fee airport's first year after it signs a Memorandum of Agreement with Customs to become a user fee airport, and the annual fee thereafter charged user fee airports.

EFFECTIVE DATE: The new fees will be effective October 1, 2002, and will be reflected in quarterly, user fee airport billings issued on or after that date.

FOR FURTHER INFORMATION CONTACT: Cynthia Sargent, Budget Division, Office of Finance (202) 927-0609.

SUPPLEMENTARY INFORMATION:

Background

Section 236 of the Trade and Tariff Act of 1984 (Pub. L. 98-573, 98 Stat. 2992) (codified at 19 U.S.C. 58b), as amended, authorizes the Secretary of the Treasury to make Customs services available at certain specified airports and at any other airport, seaport, or other facility designated by the Secretary pursuant to specified criteria, and to charge a fee for providing such services. (The list of user fee airports is found at § 122.15 of the Customs Regulations (19 CFR 122.15).) The fee that is charged is in an amount equal to the expenses incurred by the Secretary in providing Customs services at the designated facility, which includes purchasing equipment and providing training and inspectional services, i.e., the salary and expenses of individuals employed by the Secretary to provide the Customs services. The fees being raised are the initial fee charged a user fee airport after it signs a Memorandum of Agreement with Customs so that it can begin operations (currently set at $118,000), and the annual fee subsequently charged so that user fee airports can continue to offer Customs services at their facilities (currently set at $88,500). The notice announcing the current user fee rates was published in the Federal Register(66 FR 48739) on September 21, 2001. The user fees charged a user fee airport are typically set forth in a Memorandum of Agreement between the user fee facility and Customs. While the amount of these fees are agreed to be at flat rates, they are periodically adjustable, as costs and circumstances change.

Adjustment of User Fee Airport Fees

Customs has determined that, in order for the user fee to fully reimburse Customs for expenses incurred in providing requested services, the initial fee must be increased from $118,000 to $129,125, and the recurring annual fee subsequently charged must be increased from $88,500 to $115,400. Since inception, Headquarters has administered the program through the assignment of resources on a part time basis. The Headquarters' costs have been included in the fees. The program has experienced significant growth and, consequently, related costs for providing Headquarters' administrative services have increased to a level necessary for Customs to dedicate a permanent resource at Headquarters to manage and administer the program on a full time basis. The added resource will enable Customs to more adequately and efficiently manage the program. The increase in the recurring annual fee covers the increased costs. The new fees will be effective October 1, 2002, and will be reflected in quarterly, user fee airport billings issued on or after that date.

Dated: September 6, 2002.
Carol A. Dunham,
Acting Assistant Commissioner, Office of Finance.

[FR Doc. 02-23232 Filed 9-11-02; 8:45 am]

BILLING CODE 4820-02-P